OFFICE OF THE UNITED STATES TRADE REPRESENTATIVE

Notice of Conforming Amendments: China's Acts, Policies, and Practices Related to Technology Transfer, Intellectual Property, and Innovation

AGENCY: Office of the United States Trade Representative (USTR).

ACTION: Notice.

SUMMARY: The U.S. International Trade Commission (USITC) has implemented certain changes to the Harmonized Tariff Schedule of the United States (HTSUS) to reflect Harmonized System modifications adopted by the World Customs Organization and changes to statistical categories. This notice announces conforming amendments to legal note provisions in the HTSUS associated with the actions in the section 301 investigation of China's Acts, Policies, and Practices Related to Technology Transfer, Intellectual Property, and Innovation.

DATES: The conforming amendments announced in Annex I to this notice are applicable as of October 14, 2022. The conforming amendments announced in Annex II to this notice apply as of July 1, 2022.

FOR FURTHER INFORMATION CONTACT: For general questions about this notice, contact Associate General Counsel Philip Butler, Assistant General Counsel Rachel Hasandras, or Assistant General Counsel David Salkeld at (202) 395-5725. For specific questions on customs classification or implementation of the product exclusions identified in the Annex to this notice, contact traderemedy@cbp.dhs.gov.

SUPPLEMENTARY INFORMATION:

A. Background

The U.S. Trade Representative has taken actions under section 301 of the Trade Act of 1974, as amended, in the form of additional duties on products of China in the investigation of China's Acts, Policies, and Practices Related to Technology Transfer, Intellectual Property, and Innovation. The China 301 actions are set out in notes to the HTSUS. See, e.g., 87 FR 26797 (section A—summarizing the trade actions and modifications).

In Presidential Proclamation 10326 of December 23, 2021, the President directed the USITC to implement certain changes in tariff subheadings of the HTSUS, consistent with Harmonized System amendments adopted by the World Customs Organization. The changes were effective January 27, 2022. Additionally, the USITC implemented changes to certain ten-digit statistical categories approved by the Committee for Statistical Annotation of Tariff Schedules (formulated pursuant to section 484(f) of the Tariff Act of 1930, as amended (19 U.S.C. 1484(f)), effective July 1, 2022.

B. Conforming Amendments

To maintain the pre-existing product coverage of the China 301 actions, conforming amendments to the corresponding note provisions in the HTSUS are required.

Annex I to this notice makes conforming amendments to a U.S. note in ch. 99 of the HTSUS in light of the changes in tariff subheadings made by the USITC in accordance with Presidential Proclamation 10326. In particular, this notice makes conforming amendments to U.S. note 20 subdivisions (b), (f), and (s)(i) to subchapter III of chapter 99 of the HTSUS, as set out in the Annexes to the notices published at 85 FR 85831 (December 29, 2020), 86 FR 13785 (March 10, 2021), and 86 FR 63438 (November 16, 2021) in the above-titled investigation under section 301. The conforming amendments are applicable as of October 14, 2022.

Annex II to this notice makes conforming amendments to accommodate recent changes to the HTSUS made pursuant to 19 U.S.C. 1484(f). In particular, the conforming amendments affect U.S. note 20 subdivisions (sss)(iii)(6) and (8); and U.S. note 20 subdivisions (ttt)(iii)(9), (11), (179), and (180), as set out in the Annexes to the notices published at 86 FR 63438 (November 16, 2021), 87 FR 33871 (June 3, 2022), and 87 FR 17380 (March 28, 2022). Like all exclusions under the Section 301 investigation, these conforming amendments apply to entries of goods that are not liquidated or to entries that are liquidated, but not final.

C. Confirmation of CBP Instructions

Cargo Systems Messaging Service (CSMS) No. 51166038 (sent Feb. 28, 2022) (https://content.govdelivery.com/accounts/USDHSCBP/bulletins/30cbb56), addressed duty treatment for HTSUS subheading 2202.99.91 as provided for under HTSUS 9903.88.03, effective January 27, 2022, in light of changes to the HTSUS made by the USITC in accordance with Presidential Proclamation 10326. This notice confirms the U.S. Customs and Border Protection instructions as maintaining the pre-existing product coverage of the 301 actions.

Annex I

1. Effective with respect to goods entered for consumption, or withdrawn from warehouse for consumption, on or after 12:01 a.m. eastern daylight time on October 14, 2022, note 20(b) to subchapter III of chapter 99 of the Harmonized Tariff Schedule of the United States (HTSUS) is amended by deleting “8541.40.95”.

2. Effective on October 14, 2022, note 20(f) to subchapter III of chapter 99 of the HTSUS is amended:

a. by inserting “2202.99.91” in numerical sequence; and

b. by deleting the following subheading numbers:

“3402.11.40

5703.20.10

7019.39.50

7019.59.30

7019.59.40

7019.59.70

7019.59.90

7419.99.50

9013.90.50”.

3. Effective on October 14, 2022, note 20(s)(i) to subchapter III of chapter 99 of the HTSUS is amended:

a. by inserting “1704.90.78” in numerical sequence; and

b. by deleting “6201.11.00”.

Annex II

Effective with respect to goods entered for consumption, or withdrawn from warehouse for consumption, on or after 12:01 a.m. eastern daylight time on July 1, 2022:

1. Note 20(sss)(iii)(6) to subchapter III of chapter 99 of the HTSUS is modified by deleting “5603.12.0090” and by inserting “5603.12.0090 prior to July 1, 2022; 5603.12.0070 or 5603.12.0095 effective July 1, 2022” in lieu thereof.

2. Note 20(sss)(iii)(8) to subchapter III of chapter 99 of the HTSUS is modified by deleting “5603.92.0090” and by inserting “5603.92.0090 prior to July 1, 2022; 5603.92.0070 or 5603.92.0095 effective July 1, 2022” in lieu thereof.

3. Note 20(ttt)(iii)(9) to subchapter III of chapter 99 of the HTSUS is modified by deleting “5603.12.0090” and by inserting “5603.12.0090 prior to July 1, 2022; 5603.12.0070 or 5603.12.0095 effective July 1, 2022” in lieu thereof.

4. Note 20(ttt)(iii)(11) to subchapter III of chapter 99 of the HTSUS is modified by deleting “5603.92.0090” and by inserting “5603.92.0090 prior to July 1, 2022; 5603.92.0070 or 5603.92.0095 effective July 1, 2022” in lieu thereof.

5. Note 20(ttt)(iii)(179) to subchapter III of chapter 99 of the HTSUS is modified by deleting “9403.20.0081” and by inserting “9403.20.0081 prior to July 1, 2022; described in statistical reporting number 9403.20.0082 effective July 1, 2022” in lieu thereof.

6. Note 20(ttt)(iii)(180) to subchapter III of chapter 99 of the HTSUS is modified by deleting “9403.20.0081 effective July 1, 2019” and by inserting “9403.20.0081 effective July 1, 2019 through June 30, 2022; described in statistical reporting number 9403.20.0082 effective July 1, 2022” in lieu thereof.”

Greta Peisch,
General Counsel, Office of the United States Trade Representative.

[FR Doc. 2022-22354 Filed 10-13-22; 8:45 am]

BILLING CODE 3390-F3-P